DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of 17 individuals and six entities whose property and interests in property have been blocked pursuant to the Foreign Narcotics Kingpin Designation Act (“Kingpin Act”) (21 U.S.C. 1901-1908, 8 U.S.C. 1182).

DATES: The designation by the Director of OFAC of the 17 individuals and six entities identified in this notice pursuant to section 805(b) of the Kingpin Act is effective on July 23, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 23, 2014, the Director of OFAC designated the following 17 individuals and six entities whose property and interests in property are blocked pursuant to section 805(b) of the Kingpin Act.

Individuals

1. ALVAREZ PINEDA, Rafael (a.k.a. “CHEPE”); DOB 27 Mar 1975; POB Yacopi, Cundinamarca, Colombia; citizen Colombia; Cedula No. 98649747 (Colombia) (individual) [SDNTK].

2. ANAYA MARTINEZ, Cesar Daniel (a.k.a. “TIERRA”); DOB 30 Apr 1981; POB Tierralta, Cordoba, Colombia; citizen Colombia; Cedula No. 78768807 (Colombia) (individual) [SDNTK].

3. DURANGO RESTREPO, Jairo de Jesus (a.k.a. “GUAGUA”); DOB 30 Jun 1972; POB Frontino, Antioquia, Colombia; citizen Colombia; Cedula No. 3484676 (Colombia) (individual) [SDNTK] (Linked To: COMERCIALIZADORA J DURANGO).

4. GOMEZ ALVAREZ, Sor Teresa (a.k.a. “LA NEGRA”); DOB 27 Jun 1956; POB Amalfi, Antioquia, Colombia; Cedula No. 21446537 (Colombia); Passport 21446537 (Colombia) (individual) [SDNTK] (Linked To: FUNDACION PARA LA PAZ DE CORDOBA).

5. GUTIERREZ RENDON, Orlando (a.k.a. “NEGRO ORLANDO”); DOB 12 Jan 1966; POB Buenaventura, Valle, Colombia; citizen Colombia; Cedula No. 16486550 (Colombia) (individual) [SDNTK].

6. LOPEZ LONDONO, Henry de Jesus (a.k.a. “MI SANGRE”); DOB 15 Feb 1971; POB Medellin, Antioquia, Colombia; citizen Colombia; Cedula No. 71721132 (Colombia) (individual) [SDNTK] (Linked To: H Y J COMERCIALIZADORA INTERNACIONAL LTDA).

7. MESA PAEZ, Aristides Manuel (a.k.a. “EL INDIO”); DOB 25 Apr 1970; POB San Pedro de Uraba, Antioquia, Colombia; citizen Colombia; Cedula No. 71978727 (Colombia) (individual) [SDNTK].

8. MONTOYA USUGA, Alexander (a.k.a. “FLACO USUGA”); DOB 14 Jun 1979; POB Medellin, Antioquia, Colombia; citizen Colombia; Cedula No. 71216560 (Colombia) (individual) [SDNTK].

9. MORENO TUBERQUIA, Carlos Antonio (a.k.a. “NICOLAS”); DOB 30 Apr 1977; POB Monteria, Cordoba, Colombia; citizen Colombia; Cedula No. 11002975 (Colombia) (individual) [SDNTK].

10. PADIERNA PENA, Luis Orlando (a.k.a. “INGLATERRA”); DOB 26 Jan 1979; POB Carepa, Antioquia, Colombia; citizen Colombia; Cedula No. 15441176 (Colombia) (individual) [SDNTK].

11. PALENCIA GONZALEZ, Cipriam Manuel (a.k.a. “VISAJE”); DOB 18 Apr 1979; POB Valencia, Cordoba, Colombia; citizen Colombia; Cedula No. 10903608 (Colombia) (individual) [SDNTK].

12. ROBAYO ESCOBAR, Carlos Jose (a.k.a. “GUACAMAYO”); DOB 01 Jan 1969; POB Palmira, Valle, Colombia; citizen Colombia; Cedula No. 16367106 (Colombia) (individual) [SDNTK].

13. URDINOLA ALVAREZ, Hector Mario (a.k.a. “CHICHO”); DOB 26 Aug 1982; POB Cali, Valle, Colombia; citizen Colombia; Cedula No. 16844641 (Colombia) (individual) [SDNTK] (Linked To: JOYERIA MANUELLA H.M.).

14. USUGA TORRES, Arley (a.k.a. “07”; a.k.a. “CERO SIETE”); DOB 14 Aug 1979; POB Tierralta, Cordoba, Colombia; citizen Colombia; Cedula No. 71255292 (Colombia) (individual) [SDNTK].

15. VARON CADENA, Greilyn Fernando (a.k.a. “MARTIN BALA”); DOB 02 Mar 1982; POB Cali, Valle, Colombia; citizen Colombia; Cedula No. 16943202 (Colombia) (individual) [SDNTK] (Linked To: INMOBILIARIA FER CADENA).

16. VARON CADENA, Ingrid Edith, Spain; DOB 21 Sep 1976; POB Cali, Valle, Colombia; citizen Colombia; Cedula No. 31479317 (Colombia) (individual) [SDNTK] (Linked To: LITOGRAFIA VARON).

17. VARON CADENA, Maribel, Spain; DOB 27 Dec 1977; POB Cali, Valle, Colombia; citizen Colombia; Cedula No. 31480963 (Colombia) (individual) [SDNTK] (Linked To: VARIEDADES BRITNEY).

Entities

1. COMERCIALIZADORA J DURANGO, Calle 51 #47C-02 BRR Centro, San Pedro de Uraba, Antioquia, Colombia; Matricula Mercantil No 57622 (Uraba) [SDNTK].

2. H Y J COMERCIALIZADORA INTERNACIONAL LTDA, Carrera 15 No. 119-32, Bogota, Colombia; NIT # 830106350-0 (Colombia); Matricula Mercantil No 01200175 (Bogota) [SDNTK].

3. INMOBILIARIA FER CADENA, Diagonal 23 #11-07 P.2, Cali, Valle, Colombia; Matricula Mercantil No 754962-2 (Cali) [SDNTK].

4. JOYERIA MANUELLA H.M., Carrera 50 #9B-20, Cali, Valle, Colombia; Matricula Mercantil No 818178-2 (Cali) [SDNTK].

5. LITOGRAFIA VARON, Carrera 34 #35-51, Cali, Valle, Colombia; Matricula Mercantil No 566466-2 (Cali) [SDNTK].

6. VARIEDADES BRITNEY, Carrera 24A #3-58, Cali, Valle, Colombia; Matricula Mercantil No 606223-2 (Cali) [SDNTK].

Dated: July 23, 2014.
Adam J. Szubin,
Director, Office of Foreign Assets Control.

[FR Doc. 2014-18215 Filed 7-31-14; 8:45 am]

BILLING CODE 4810-AL-P